FEDERAL COMMUNICATIONS COMMISSION

47 CFR Part 76

[MM Docket No. 92-263; DA 02-1474]

Implementation of Section 8 of the Cable Television Consumer Protection and Competition Act of 1992

AGENCY: Federal Communications Commission.

ACTION: Final rule; dismissal of petitions for reconsideration.

SUMMARY: This document dismisses two petitions for reconsideration involving customer service standards adopted pursuant to the Cable Television Consumer Protection and Competition Act of 1992.

FOR FURTHER INFORMATION CONTACT: John Norton, Policy Division, Media Bureau, (202) 418-7037, TTY (202) 418-2989 or jnorton@fcc.gov.

SUPPLEMENTARY INFORMATION: This is a summary of the Order of Dismissal (“Order”) in MM 92-263; DA 02-1474, adopted June 20, 2002 and released June 24, 2002. The complete text of this Order is available for inspection and copying during normal business hours in the FCC Reference Center, Room CY-A257, 445 12th Street, SW., Washington, DC and may also be purchased from the Commission's copy contractor, Qualex International, Portals II, 445 12th Street SW, Room CY-B-402, Washington, DC 20554, telephone (202) 863-2893, facsimile (202) 863-2898, or via email qualexint@aol.com.

Synopsis of Order

Pursuant to Section 8 of the Cable Television Consumer Protection and Competition Act of 1992 (1992 Cable Act), Public Law 102-385, the Commission established customer service standards which are subject to enforcement by local franchising authorities. Federal Register document published on April 19, 1993, 58 FR 21107, 47 CFR 76.309. Petitions seeking reconsideration of the adoption of particular aspects of the customer service standards were filed by the National Cable & Telecommunications Association (NCTA) and the Coalition of Small System Operators (Coalition). Due to the passage of time, and with no objections put forth by petitioners, we are dismissing the NCTA and Coalition petitions without prejudice.

Federal Communications Commission.
W. Kenneth Ferree,
Chief, Media Bureau.

[FR Doc. 02-18349 Filed 7-22-02; 8:45 am]

BILLING CODE 6712-01-P